DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on June 5, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On June 5, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 to impose on the persons identified below.

As a result, the property and interests in property subject to U.S. jurisdiction of the following persons are blocked under the relevant sanctions authority listed below.

Individuals

1. CROMWELL, Mark (a.k.a. “Demon”; a.k.a. “Diamond”), Lot 40 Vigilance, East Coast Demerara, Guyana; Lot 10 Buxton, East Coast Demerara, Guyana; DOB 29 Mar 1982; POB Guyana; nationality Guyana; citizen Guyana; Gender Male (individual) [ILLICIT-DRUGS-EO14059].

Designated pursuant to section 1(a)(i) of E.O. 14059 for having engaged in, or attempted to engage in, activities or transactions that have materially contributed to or pose a significant risk of materially contributing to, the international proliferation of illicit drugs or their means of production.

2. DABY JR., Paul (a.k.a. DABY RAMSUCHIT, Paul; a.k.a. “Randell”; a.k.a. “Rondell”), 127 D'Aguiar Park, Georgetown, Guyana; DOB 06 Jul 1985; POB Georgetown, Guyana; nationality Guyana; citizen Guyana; Gender Male; Passport R0232980 (Guyana); National ID No. 112094656 (Guyana) (individual) [ILLICIT-DRUGS-EO14059].

Designated pursuant to section 1(a)(i) of E.O. 14059 for having engaged in, or attempted to engage in, activities or transactions that have materially contributed to or pose a significant risk of materially contributing to, the international proliferation of illicit drugs or their means of production.

3. DUNCAN, Randolph (a.k.a. “DUNCAN, Rudolph”), Guyana; DOB 18 Feb 1970; POB Georgetown, Guyana; nationality Guyana; citizen Guyana; Gender Male; Cedula No. V-25086099 (Venezuela) (individual) [ILLICIT-DRUGS-EO14059].

Designated pursuant to section 1(a)(i) of E.O. 14059 for having engaged in, or attempted to engage in, activities or transactions that have materially contributed to or pose a significant risk of materially contributing to, the international proliferation of illicit drugs or their means of production.

4. SALAZAR GUTIERREZ, Manuel (a.k.a. “Manguera”; a.k.a. “Orejon”), Colombia; DOB 31 Dec 1966; nationality Colombia; citizen Colombia; Gender Male; Cedula No. 76252205 (Colombia); Passport BC336116 (Colombia) (individual) [ILLICIT-DRUGS-EO14059].

Designated pursuant to section 1(a)(i) of E.O. 14059 for having engaged in, or attempted to engage in, activities or transactions that have materially contributed to or pose a significant risk of materially contributing to, the international proliferation of illicit drugs or their means of production.

5. SANCHEZ VALLEJO, Yeison Andres (a.k.a. “Andreas”; a.k.a. “Blacks”), Colombia; Arakaka, Barima-Waini Region, Guyana; DOB 15 Jul 1990; POB Puerto Salgar, Colombia; nationality Colombia; citizen Colombia; Gender Male; Cedula No. 1003698707 (Colombia); Passport AU089105 (Colombia) (individual) [ILLICIT-DRUGS-EO14059].

Designated pursuant to section 1(a)(i) of E.O. 14059 for having engaged in, or attempted to engage in, activities or transactions that have materially contributed to or pose a significant risk of materially contributing to, the international proliferation of illicit drugs or their means of production.

6. SAWH, Himnauth, Guyana; DOB 03 Jun 1988; POB Cane Grove, Guyana; nationality Guyana; Gender Male; Passport R0293133 (Guyana) (individual) [ILLICIT-DRUGS-EO14059].

Designated pursuant to section 1(a)(i) of E.O. 14059 for having engaged in, or attempted to engage in, activities or transactions that have materially contributed to or pose a significant risk of materially contributing to, the international proliferation of illicit drugs or their means of production.

Lisa M. Palluconi,
Acting Director, Office of Foreign Assets Control.

[FR Doc. 2025-10572 Filed 6-10-25; 8:45 am]

BILLING CODE 4810-AL-P